DEPARTMENT OF AGRICULTURE

Submission for OMB Review; Comment Request

April 16, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, 725 17th Street NW., Washington, DC 20502. Commenters are encouraged to submit their comments to OMB via email to: OIRA_Submission@omb.eop.gov or fax (202) 395-5806 and to Departmental Clearance Office, USDA, OCIO, Mail Stop 7602, Washington, DC 20250-7602. Comments regarding these information collections are best assured of having their full effect if received by May 22, 2014. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Value-Added Producer Grants Program.

OMB Control Number: 0570-0064.

Summary of Collection: The Cooperative Programs unit within Rural Business-Cooperative Service (RBS) an agency within the USDA Rural Development mission area will administer the Value-Added Producer Grants (VAPG) Program. The Program is authorized under section 231 of the Agriculture Risk Protection Act of 2000 (Public law 106-224) as amended by section 6202 of the Food, Conservation, and Energy Act of 2008 (P.L. 110-246). The objective of this program is to encourage producers of agricultural commodities and products of agricultural commodities to further refine these products increasing their value to end users of the product. These grants will be used for two purposes: (1) To fund feasibility studies, marketing and business plans, and similar development activities; and (2) to use the grant as part of the venture's working capital expenses such as inventory, utilities and salaries.

Need and Use of the Information: Rural Development State and Area office staff, as delegated, will collect information from applicants and grantees. RBS will use the information collected by to determine (1) eligibility; (2) the specific purpose for which the funds will be utilized; (3) time frames or dates by which activities are to be accomplished; (4) feasibility of the project; (5) applicants' experience in managing similar activities; and (6) the effectiveness and innovation used to address critical issues vital to value-added ventures development and sustainability. Without this information, there would be no basis on which to award funds.

Description of Respondents: Business or other for-profit; Individuals.

Number of Respondents: 350.

Frequency of Responses: Recordkeeping; Reporting: On occasion; Monthly; Semi-annually; Annually.

Total Burden Hours: 37,415.

Charlene Parker,
Departmental Information Collection Clearance Officer.

[FR Doc. 2014-09089 Filed 4-21-14; 8:45 am]

BILLING CODE 3410-XY-P